DEPARTMENT OF HEALTH AND HUMAN SERVICES

Centers for Disease Control and Prevention

[Docket Number NIOSH-063-A]

Fire Fighter Fatality Investigation and Prevention Program (FFFIPP) Stakeholders' Meeting

AGENCY: The National Institute for Occupational Safety and Health (NIOSH) of the Centers for Disease Control and Prevention (CDC), Department of Health and Human Services (HHS).

ACTION: Notice of Public Meeting and availability for Public Comment.

SUMMARY: The National Institute for Occupational Safety and Health (NIOSH) of the Centers for Disease Control and Prevention (CDC) announces the following meeting and request for public comment on the Fire Fighter Fatality Investigation and Prevention Program (FFFIPP).

Public Meeting Time and Date: 10 a.m.-5 p.m., CST, November 19, 2008.

Place: Crowne Plaza Hotel, Chicago O'Hare, 5440 North River Road, Rosemont, Illinois 66018.

Purpose of Meeting: The public meeting will seek stakeholder input on the progress and strategic goals of the NIOSH Fire Fighter Fatality Investigation and Prevention Program (FFFIPP) to ensure that the program is meeting the needs of the stakeholders, and to identify ways in which the program can be improved to increase its impact on the safety and health of fire fighters across the United States. NIOSH will compile and consider all comments received at the meeting and through the NIOSH Docket Office and use them in making decisions on how to proceed with the FFFIPP.

Status: This meeting is hosted by NIOSH and will be open to the public, limited only by the space available. The meeting room will accommodate approximately 75 people.

Interested parties should make hotel reservations directly with the Crowne Plaza Hotel, telephone (847) 671-6350 or (800) 972-2494 and reference the NIOSH FFFIPP Stakeholders Meeting. Interested parties should confirm their attendance to this meeting by completing a registration form on the NIOSH Web site: http://www.cdc.gov/niosh/fire/2008PublicMeetingRegistration.html

Format of Meeting: The NIOSH Acting Director, Dr. Christine Branche, will provide opening remarks, followed by NIOSH presentations that provide an overview of the Fire Fighter Fatality Investigation and Prevention Program (FFFIPP) and summary of Program changes and improvements since March 2006. NIOSH will present and make available for stakeholder input a set of draft Strategic Goals for FFFIPP for stakeholder consideration and comment. Stakeholders who have requested an opportunity to speak prior to the meeting will present suggestions for enhancing the impact of the program and future directions. An opportunity to make oral presentations will be provided to all interested parties, given time on the agenda. Presentations will be limited to 10 minutes. The meeting will end with an interactive session providing the opportunity for clarification of stakeholder comments.

Requests to make presentations at the meeting should be made by e-mail to Paul Moore, Chief, Fatality Investigations Team, e-mail PMoore@cdc.gov, telephone (304) 285-6016 or Matt Bowyer, General Engineer, e-mail MBowyer@cdc.gov, telephone (304) 285-5991, facsimile (304) 285-5774, before November 10, 2008. All requests to present should include the name, address, telephone number, relevant business affiliations of the presenter, and a brief summary of the presentation. After reviewing the requests for presentation, NIOSH FFFIPP staff will notify each presenter of the approximate time that their presentation is scheduled to begin. If a participant is not present when their presentation is scheduled to begin, the remaining participants will be heard in order.

Written comments without an oral presentation are also encouraged, and should be submitted to the NIOSH Docket Office as outlined in the next section.

Written comments on the usefulness of the FFFIPP and products for improving fire fighter safety and health, suggestions for enhancing the impact of the program, and comments on the draft FFFIPP strategic and programmatic goals may be submitted to the NIOSH Docket Office, Robert A. Taft Laboratories, Mailstop C34, 4676 Columbia Parkway, Cincinnati, Ohio 45226, telephone (513) 533-8303, facsimile (513) 533-8285. Comments may also be submitted via e-mail to niocindocket@cdc.gov. All electronic comments should be formatted as Microsoft Word. Comments should be submitted to NIOSH no later than December 19, 2008, and should reference the NIOSH Docket Number 063-A in the subject heading.

Background: NIOSH convened a similar stakeholders' meeting in March 2006 to seek input on the progress and future directions of the FFFIPP. The input provided by stakeholders at that meeting was useful in providing insight into stakeholder needs and in helping to improve the FFFIPP. The November 2008 meeting will be held to again seek stakeholder input.

Contact Person for Technical Information: Paul Moore, Chief, Fatality Investigations Team, Division of Safety Research, telephone (304) 285-6016 or Matt Bowyer, General Engineer, Fatality Investigations Team, (304) 285-5991.

Dated: October 9, 2008.
James D. Seligman,
Chief Information Officer, Centers for Disease Control and Prevention.

[FR Doc. E8-24732 Filed 10-16-08; 8:45 am]

BILLING CODE 4163-19-P